DEPARTMENT OF TRANSPORTATION

National Highway Traffic Safety Administration

[Docket No. NHTSA-2022-0016]

Agency Information Collection Activities; Submission to the Office of Management and Budget for Review and Approval: Request for Comment; Consumer Complaint Information

AGENCY: National Highway Traffic Safety Administration (NHTSA), Department of Transportation (DOT).

ACTION: Notice and request for comments on a reinstatement of a previously approved collection of information.

SUMMARY: In compliance with the Paperwork Reduction Act of 1995, this notice announces that the Information Collection Request (ICR) summarized below is being forwarded to the Office of Management and Budget (OMB) for review and approval. The ICR describes the nature of the information collection and its expected burden. A Federal Register Notice with a 60-day comment period soliciting comments on the following information collection was published on April 7, 2022. One comment was received.

DATES: Comments must be submitted on or before March 27, 2023.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Randy Reid, Office of Defects Investigation (NEF-100), 212-366-2315, National Highway Traffic Safety Administration, W48-335, Department of Transportation, 1200 New Jersey Avenue SE, Washington, DC 20590, email: randy.reid@dot.gov. Please identify the relevant collection of information by referring to its OMB Control Number (2127-0008).

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted OMB.

Title: Consumer Complaint Information.

OMB Control Number: 2127-0008.

Form Number: O.M.B No. 2127-0008.

Type of Request: Reinstatement of a previously approved information collection.

Type of Review Requested: Regular.

Length of Approval Requested: Three years from date of approval.

Summary of the Collection of Information:

Chapter 301 of title 49 of the United States Code authorizes the Secretary of Transportation (NHTSA by delegation) to require manufacturers of motor vehicles and motor vehicle equipment to conduct owner notification and remedy, i.e., a recall campaign, when it has been determined that a safety defect exists in the performance, construction, components, or materials in motor vehicles and motor vehicle equipment. Pursuant to title 49 of the United States Code of Federal Regulations (CFR) parts 573 and 577, manufacturers are required to notify NHTSA, as well as motor vehicle and motor vehicle equipment owners, dealers, and distributors, that a determination has been made to remedy a defect through the issuance of a safety recall. Manufacturers often initiate safety recalls voluntarily, while other recalls are influenced by NHTSA investigations or ordered by NHTSA via a court ruling. A manufacturer of each such motor vehicle or item of replacement equipment presented for remedy pursuant to such notification is required to remedy the safety defect at no charge to the owner. The manufacturer shall cause the vehicle to be remedied by any of the following means: (1) by repairing such vehicle or equipment; (2) by replacing such motor vehicle or equipment with an identical or similar product; or (3) by refunding the purchase price less depreciation.

In order to help NHTSA identify safety-related defects, the agency solicits information from vehicle owners. This information is used to identify and evaluate possible safety-related defects and provide the necessary evidence of the existence of such a defect. NHTSA also uses the information to monitor the adequacy of a manufacturer's recall efforts. Consumers of motor vehicles or motor vehicle equipment voluntarily submit complaints through NHTSA's Vehicle Safety Hotline, NHTSA's website (www.nhtsa.gov), or through correspondence.

Description of the Need for the Information and Proposed Use of the Information:

NHTSA uses input from consumers to help identify potential safety-related defects that could lead to a safety recall or recall inadequacies. The complaints disclose consumers' allegations of a safety defect that they experienced with their vehicle or vehicle equipment, including defects that resulted in injuries, crashes, property damage, or death. All complaints are converted to a Vehicle Owner Questionnaire (VOQ) format and reviewed by NHTSA investigation/engineer staff. A NHTSA investigator may respond to a consumer submitting a complaint if more information is required. NHTSA staff review complaints/VOQs and determines whether further action by the agency is warranted. The agency has used this information to develop technical foundations of evidence with which to prove to manufacturers and a court that safety-related defects exist which require remedy. The information collection provides valuable information that helps NHTSA identify unreasonable safety risks in specific makes, models, and model years of vehicles and equipment and helps the agency determine when to open an investigation or initiate a recall. In this way, the information collection helps to reduce the number of crashes, fires, injuries, and fatalities that occur on our Nation's highways.

60-Day Notice:

On April 7, 2022, NHTSA published a 60-day notice requesting comment on NHTSA's intention to submit this ICR to OMB for approval (87 FR 20504). NHTSA received 1 comment, from the National Association of Mutual Insurance Companies (NAMIC). In its comment, NAMIC stated that it fully supports NHTSA's proposed collection of information as necessary and appropriate and states that it believes the information surveyed will have significant practical utility. NAMIC also stated that NHTSA's estimate of the burden and the quality, utility, and clarity of the information to be collected seem appropriate. NAMIC's comment also suggested that NHTSA consider regulations or recommendations to manufacturers that will ensure that the vehicle owner/policyholder can access and control vehicle data. NAMIC also provided a list of data elements for consideration in a regulation or recommendation.

We appreciate the comments and recommendations from NAMIC. However, the recommendations and suggestions regarding data availability are beyond the scope of the current information collection request. NHTSA will consider enhanced data collection and retrieval capabilities for vehicle owners and policy holders in future actions.

Affected Public: Consumers of motor vehicles and motor vehicle equipment.

Estimated Number of Respondents: 55,433.

There is an average of 58,350 complaints submitted per year (average of 160 complaints submitted each day). Some individuals submit multiple complaints to NHTSA. To estimate the total of unique respondents per year, NHTSA estimates that the number of unique respondents is 95 percent of the total number of complaints. Therefore, NHTSA estimates that there will be approximately 55,433 respondents each year (58,250 × .95).

Frequency: On-occasion.

The submission of complaints is triggered by the occurrence of a problem with a consumer's vehicle.

Number of Responses: 58,350.

Estimated Total Annual Burden Hours: 9,725 hours.

Respondents have averaged 58,350 consumer complaints per year to NHTSA between January 2018 and December 2020. NHTSA anticipates that a respondent can complete a VOQ in approximately 10 minutes. The consumer is asked to provide his/her name, complete mailing address, product information, failed component information, and incident information, copies of supporting documentation, and his/her signature. NHTSA estimates the total annual burden respondents to be 9,725 hours (58,350 respondents × 10 minutes per VOQ = 9,725 annual hourly burden). To calculate the opportunity cost to respondents associated with the collection, NHTSA used the national average hourly earnings of all employees on private nonfarm payrolls which the Bureau of Labor Statistics lists at $30.44.¹ Therefore, opportunity cost associated with annual burden hours associated with respondents submitting complaints is estimated to be $296,029 (9,725 hours × $30.44 per hour = $296,029 annual opportunity cost burden).

¹ See Table B-3. Average hourly and weekly earnings of all employees on private nonfarm payrolls, June 2021, available at https://www.bls.gov/news.release/empsit.t19.htm (accessed September 16, 2021).

Table 1—Annual Hour Burden Estimates
Annual number of respondents/responses | Estimated time per response (minutes) | Average hourly opportunity cost | Opportunity cost per submission | Total annual burden hours | Total annual opportunity costs
58,350 | 10 | $30.44 | $5.07 | 9,725 | $296,029

Estimated Total Annual Burden Cost: $0.

Participation in this collection is voluntary, and there are no costs to respondents beyond the time spent submitting a complaint.

Public Comments Invited: You are asked to comment on any aspect of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology. The agency will summarize and/or include your comments in the request for OMB's clearance of this information collection.

Authority: The Paperwork Reduction Act of 1995; 44 U.S.C. Chapter 35, as amended; and 49 CFR 1.49; and DOT Order 1351.29A.

Stephen Ridella,
Director, Office of Defects Investigation, NHTSA.

[FR Doc. 2023-03708 Filed 2-22-23; 8:45 am]

BILLING CODE 4910-59-P